DEPARTMENT OF HOMELAND SECURITY

Coast Guard

33 CFR Part 100

[Docket Number USCG-2024-0771]

RIN 1625-AA08

Special Local Regulation; Kailua Bay, Ironman World Championship, Kailua-Kona, Hawaii

AGENCY: Coast Guard, DHS.

ACTION: Temporary final rule.

SUMMARY: The Coast Guard is establishing a temporary special local regulation for certain waters of Kailua Bay, Hawaii, from Kailua Pier to about 3 miles southeast in Kahului Bay. This action is necessary to protect persons on these navigable waters located at Kailua-Kona, HI, during the swim portion of the Ironman World Championship Triathlon and practice swim held on October 20 and 26, 2024. Entry of persons and vessels into the regulated area is prohibited unless specifically authorized by the Sector Honolulu Captain of the Port.

DATES: This rule is effective from 3:45 a.m. to 1:30 p.m., on October 20 and 26, 2024.

ADDRESSES: To view documents mentioned in this preamble as being available in the docket, go to https://www.regulations.gov, type USCG-2024-0771 in the search box and click “Search.” Next, in the Document Type column, select “Supporting & Related Material.”

FOR FURTHER INFORMATION CONTACT: If you have questions about this rule, call or email Petty Officer Vivian S. Gonzalez, Waterways Management Division, U.S. Coast Guard Sector Honolulu; telephone (808) 522-8264, email Vivian.S.Gonzalez@uscg.mil.

SUPPLEMENTARY INFORMATION:

I. Table of Abbreviations

CFR Code of Federal Regulations

COTP Captain of the Port

DHS Department of Homeland Security

FR Federal Register

NPRM Notice of proposed rulemaking

§ Section

SLR Special Local Regulation

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” This annually reoccurring event has a permanent special local regulation, 33 CFR 100.1402, with enforcement dates on the first two weekends in October. This year, however, the event is occurring on October 20 and 26, 2024 due to conflicts of schedules. The Coast Guard finds that good cause exists for not publishing a notice of proposed rulemaking (NPRM) with respect to this rule because prompt action is necessary to respond to the potential safety hazards associated with the swim event. It is impracticable to publish an NPRM because we must establish this special local regulation by October 20, 2024.

III. Legal Authority and Need for Rule

The Coast Guard is issuing this rule under authority in 46 U.S.C. 70041. The Captain of the Port Sector Honolulu (COTP) has determined that potential safety hazards exist necessitating the movement restriction of all vessels and persons, including event participants, in the regulated area. The purpose of this rule is to ensure safety of persons and navigable waters in the regulated area before, during, and after the events.

IV. Discussion of the Rule

This rule establishes a special local regulation from 3:45 a.m. to 1:30 p.m., on October 20 and 26, 2024. The regulated area will cover all navigable waters of Kailua Bay within 100 yards adjacent to the 2.4 mile (4,224 yards) swim course, starting at the shoreline northeast of Kailua Pier at 19°38.341′ N, 155°59.782′ W; thence southeast to 19°37.416′ N, 155°59.444′ W; thence southwest to 19°37.397′ N, 155°59.500′ W; thence northwest to 19°38.150′ N, 155°59.760′ W, thence north and back to Kailua Pier at 19°38.398′ N, 155°59.816′ W, and returning along the pier to the originating point on the shoreline at 19°38.341′ N, 155°59.782′ W.

The duration of the rule and size of the regulated area is intended to protect personnel, vessels, and the marine environment in these navigable waters before, during, and after the event scheduled from 3:45 a.m. to 1:30 p.m. on October 20 and 26, 2024. The COTP and Coast Guard Patrol Commander (PATCOM) will have authority to forbid and control the movement of all vessels and persons, including event participants, in the regulated area. When hailed or signaled by an official patrol, a vessel or person in the regulated area will be required to immediately comply with the lawful directions given by the COTP or PATCOM. If a person or vessel fails to follow such directions, the Coast Guard may expel them from the area, issue them a citation for failure to comply, or both.

Except for event participants and vessels already identified as part of the event safety or security, a vessel or person will be required to get permission from the COTP or PATCOM before entering the regulated area while the rule is enforced. Vessel operators can request permission to enter and transit through the regulated area by contacting the PATCOM on VHF-FM channel 16. Vessel traffic will be able to safely transit the regulated area once the PATCOM deems it safe to do so. A person or vessel not registered with the event sponsor as a participant or assigned as official patrols will be considered a spectator. Official Patrols are any vessel assigned or approved by the Commander, Coast Guard Sector Honolulu, with a commissioned, warrant, or petty officer on board.

If permission is granted by the COTP or PATCOM, a person or vessel will be allowed to enter the regulated area or pass directly through the regulated area as instructed. Vessels will be required to operate at a safe speed while within the regulated area. Official patrol vessels will assist with the safety of the event and ensure spectator vessels remain outside the regulated area. The designated swim area will remain closed until the scheduled swim events have concluded and the regulated area is deemed safe for normal operations.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on size, location, duration, and time-of-day of the rule. Vessel traffic will be able to safely transit around the regulated area which will impact a small, designated area of the Kailua-Kona Bay for less than 10 hours during two weekends when vessel traffic is normally low. Moreover, the Coast Guard will issue a Broadcast Notice to Mariners via VHF-FM marine channel 16 about the regulated area, and the rule will allow vessels to seek permission to enter the regulated area, as well as a Local Notice to Mariners to prepare all waterways users.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the regulated area may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves implementation of regulations within 33 CFR part 100 applicable to organized marine events on the navigable waters of the United States that could negatively impact the safety of waterway users. It is categorically excluded from further review under paragraph L61 of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T14-0771 to read as follows:

§ 100.T14-0771 Special Local Regulation; Kailua Bay, Ironman World Championship, Kailua-Kona, Hawaii.

(a) Regulated areas. The regulations in this section apply to the following area: all navigable waters starting at the shoreline northeast of Kailua Pier at 19°38.341′ N, 155°59.782′ W; thence southeast to 19°37.416′ N, 155°59.444′ W; thence southwest to 19°37.397′ N, 155°59.500′ W; thence northwest to 19°38.150′ N, 155°59.760′ W, thence north and back to Kailua Pier at 19°38.398′ N, 155°59.816′ W, and returning along the pier to the originating point on the shoreline at to 19°38.341′ N, 155°59.782′ W. These coordinates reference Datum NAD 1983.

(b) Definitions. As used in this section:

Buffer area is a neutral 100-yard area that surrounds the perimeter of the course area's navigable waters as described by this section. The purpose of a buffer area is to minimize potential collision conflicts with marine event participants and spectator vessels or nearby transiting vessels. This area provides separation between a course area and spectator viewing areas.

Captain of the Port Honolulu (COTP) means the Commander, U.S. Coast Guard Sector Honolulu or any Coast Guard commissioned, warrant or petty officer who has been authorized by the COTP to act on their behalf.

Coast Guard Patrol Commander (PATCOM) means a commissioned, warrant, or petty officer of the U.S. Coast Guard who has been designated as PATCOM by the Commander, Coast Guard Sector Honolulu.

Course area is an area described by a line bound by coordinates provided in latitude and longitude that outlines the boundary of the event swim area within the overall regulated area defined by this section. The 2.24-mile (4,224 yards) swim course is a temporary marked swim course within the regulated area located in Kailua Bay.

Enforcement vessels are designated vessels authorized by the COTP, the event PATCOM, or COTP's designated representatives to support the safety and security of the marine event.

Official patrol means any vessel assigned or approved by Commander, Coast Guard Sector Honolulu with a commissioned, warrant, or petty officer on board.

Participant means any persons registered with the event sponsor as participating in the Ironman Triathlon or practice swim.

Regulated area is the combined course area and buffer area.

Spectators are all persons and vessels not registered with the sponsor as participants, support vessels, or enforcement vessels.

(c) Regulations. (1) The COTP or PATCOM may forbid and control the movement of all vessels and persons, including event participants, in the regulated area. When hailed or signaled by an official patrol, a vessel or person in the regulated area shall immediately comply with the lawful directions given by the patrol. Failure to do so may result in the Coast Guard expelling the person or vessel from the area, issuing a citation for failure to comply, or both. The COTP or PATCOM may terminate the event at any time the COTP or PATCOM believes it necessary to do so for the protection of life.

(2) Except for participants and safety support vessels, a person or vessel within the regulated area at the start of enforcement of this section must immediately depart the regulated area.

(3) Support and enforcement vessels consist of any local law enforcement and sponsor provided vessels assigned or approved by the COTP, the event PATCOM, or COTP designated representatives, to patrol the regulated area.

(4) Spectators shall not enter into, anchor, block, loiter, or impede the transit of participants or support and enforcement vessels in the regulated area during the enforcement of this section, unless cleared for entry by the COTP, the event PATCOM, or the COTP's designated representatives.

(5) Persons desiring to transit the regulated area identified may contact the COTP in advance at the Sector Honolulu Command Center telephone number (808) 842-2603 or immediately prior to or during the event to the COTP's PATCOM or designated representative on VHF-FM marine channel 16 (156.8 Mhz) to seek permission to transit or remain in the area. If permission is granted, all persons and vessels must comply with the lawful instructions of the COTP, the event PATCOM, or the COTP's designated representative and proceed at the minimum speed necessary to maintain a safe course while in the area.

(6) If enforcement of the regulated area is no longer necessary, the COTP, event Patrol Commander, or COTP designated representative will inform the public through radio broadcasts that the regulated area is no longer being enforced.

(d) Enforcement officials. The Coast Guard may be assisted with event patrol and enforcement of the regulated area by other Federal, State, and local agencies.

(e) Enforcement period. The marine event and special local regulation in this section will be enforced from 3:45 a.m. to 11 a.m. on October 20 and 26, 2024.

Dated: September 10, 2024.
Aja L. Kirksey,
Captain, U.S. Coast Guard, Captain of the Port Honolulu.

[FR Doc. 2024-21070 Filed 9-16-24; 8:45 am]

BILLING CODE 9110-04-P